ENVIRONMENTAL PROTECTION AGENCY

[FRL-9507-5]

Proposed CERCLA Administrative Cashout Settlement; The Atlantic Richfield Company

AGENCY: Environmental Protection Agency.

ACTION: Notice; request for public comment.

SUMMARY: In accordance with Section 122(i) of the Comprehensive Environmental Response, Compensation, and Liability Act, as amended (CERCLA), 42 U.S.C. 9622(i), notice is hereby given of a proposed administrative settlement for recovery of past response costs concerning the Ophir Mills and Smelter Site in Tooele County, Utah with the Atlantic Richfield Company based upon a cash-out settlement. The settlement includes a covenant not to sue the settling party pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the EPA Region 8 Records Center, 1595 Wynkoop Street, Denver, Colorado 80202.

DATES: Comments must be submitted on or before January 17, 2012.

ADDRESSES: The proposed settlement is available for public inspection at the EPA Region 8 Records Center, 1595 Wynkoop Street, Denver, Colorado 80202. A copy of the proposed settlement may be obtained from John Works, EPA Technical Enforcement Officer, EPA Region 8, 1595 Wynkoop Street, Denver, Colorado 80202, (303) 312-6196. Comments should reference the Ophir Mills and Smelter Site, Tooele County, Utah and EPA Docket No. 08-2012-0002 and should be addressed to John Works, EPA Technical Enforcement Officer, EPA Region 8, 1595 Wynkoop Street, Denver, Colorado 80202.

FOR FURTHER INFORMATION CONTACT: John Works, EPA Technical Enforcement Officer, EPA Region 8, 1595 Wynkoop Street, Denver, Colorado 80202, (303) 312-6196.

Dated: December 7, 2011.
Andrew M. Gaydosh,
Assistant Regional Administrator, Office of Enforcement and Compliance and Environmental Justice, U.S. Environmental Protection Agency, Region 8.

[FR Doc. 2011-32174 Filed 12-14-11; 8:45 am]

BILLING CODE 6560-50-P